DEPARTMENT OF HEALTH AND HUMAN SERVICES

Substance Abuse and Mental Health Services Administration

Fiscal Year (FY) 2014 Funding Opportunity

AGENCY: Substance Abuse and Mental Health Services Administration, HHS.

ACTION: Notice of intent to award a single source grant to the National Association of State Alcohol and Drug Abuse Directors (NASADAD).

SUMMARY: This notice is to inform the public that the Substance Abuse and Mental Health Services Administration (SAMHSA) intends to award $1.162 million (total costs) for up to three years to NASADAD for Technical Assistance to States for Implementation of the Substance Abuse Block Grant (SABG) for Prevention and Treatment (Short Title: SABG-TA). The purpose of this program is to provide technical assistance (TA) to substance abuse Single State Agencies (SSAs) to increase service capacity, including recovery support services, develop integrated systems of care, improve behavioral health outcomes, and support strategies for addressing health disparities in use of the National Standards for Culturally and Linguistically Appropriate Services (CLAS) in Health and Health Care. In addition, the program will provide TA support to the National Prevention Network (NPN) leadership in support of the further development of state prevention systems as it relates to the implementation of the SABG program. SABG-TA funds will be used to assist states in responding to emerging issues, such as the Affordable Care Act, parity, information technology innovations, implementation of evidence-based practices, and issues related to program integrity. These funds are used for prevention, treatment, recovery support, and other services that will assist in the development, implementation, and management of the SABG program.

Funding Opportunity Title: TI-14-002.

Catalog of Federal Domestic Assistance (CFDA) Number: 93.243.

Authority: Section 1935 of the Public Health Services Act, as amended.

Justification: Eligibility for this award is limited to NASADAD. NASADAD is in the unique position to facilitate these activities because:

• NASADAD is the sole and unique organization with a direct official relationship with the SSAs and is the only agency of its type representing all the SSAs for substance use disorder treatment and primary prevention activities.

• NASADAD has helped to professionalize the field, and support the systematic development of evidence-based models of screening, assessment, treatment, and recovery support services. Such interventions yield favorable outcomes, are cost-effective, scalable, and sustainable. Significant investments in training and workforce development have made these interventions accessible to providers of treatment and prevention services around the country.

• Over the years, NASADAD has built an extensive array of constituency groups and has maintained these ongoing memberships in order to coordinate group activities via teleconference, net conference, or in person meetings, as necessary for the purpose of educating the public about the value and importance of substance use disorder treatment and prevention.

• NASADAD is the sole organization that has been utilizing a Web-based process to facilitate SSA dialogue on SSA management, clinical program and research issues practices within the SSAs/NPNs, and recognizes and promotes a number of critical prevention research products.

• NASADAD's constituency and staff are a repository of knowledge on state issues related to substance abuse treatment indicators and are accountable for performance in the SABG grant. This knowledge is critical to the grant project.

As a result, NASADAD is uniquely qualified and positioned to carry out the requirements of this announcement.

Contact: Cathy Friedman, Substance Abuse and Mental Health Services Administration, 1 Choke Cherry Road, Room 8-1097, Rockville, MD 20857; telephone: (240) 276-2316; email: cathy.friedman@samhsa.hhs.gov.

Cathy J. Friedman,
SAMHSA Public Health Analyst.

[FR Doc. 2013-31583 Filed 1-3-14; 8:45 am]

BILLING CODE 4162-20-P